SOCIAL SECURITY ADMINISTRATION

Agency Information Collection Activities: Proposed Request and Comment Request

The Social Security Administration (SSA) publishes a list of information collection packages requiring clearance by the Office of Management and Budget (OMB) in compliance with Public Law (Pub. L.) 104-13, the Paperwork Reduction Act of 1995, effective October 1, 1995. This notice includes revisions and extensions of OMB-approved information collections.

SSA is soliciting comments on the accuracy of the agency's burden estimate; the need for the information; its practical utility; ways to enhance its quality, utility, and clarity; and ways to minimize burden on respondents, including the use of automated collection techniques or other forms of information technology. Mail, e-mail, or fax your comments and recommendations on the information collection(s) to the OMB Desk Officer and SSA Reports Clearance Officer to the following addresses or fax numbers.

(OMB), Office of Management and Budget. Attn: Desk Officer for SSA. Fax: 202-395-6974. E-mail address: OIRA_Submission@omb.eop.gov.

(SSA), Social Security Administration, DCBFM. Attn: Reports Clearance Officer. 1333 Annex Building, 6401 Security Blvd., Baltimore, MD 21235. Fax: 410-965-6400. E-mail address: OPLM.RCO@ssa.gov.

I. The information collections below are pending at SSA. SSA will submit them to OMB within 60 days from the date of this notice. To be sure we consider your comments, we must receive them no later than November 2, 2010. Individuals can obtain copies of the collection instruments by calling the SSA Reports Clearance Officer at 410-965-8783 or by writing to the above e-mail address.

1. Modified Benefit Formula Questionnaire-Employer—20 CFR 401 & 402—0960-0477. SSA collects information on Form SSA-58 to verify the claimant's allegations on Form SSA-150 (OMB #0960-0395, Modified Benefits Formula Questionnaire). SSA uses the SSA-58 to determine if the modified benefit formula is applicable and when to apply it to a person's benefit. SSA sends Form SSA-58 to an employer for pension-related information, if the claimant is unable to provide it. The respondents are employers of people who are eligible after 1985 for both Social Security benefits and a pension based on work not covered by SSA.

Type of Request: Revision of an OMB-approved information collection.

Number of Respondents: 30,000.

Frequency of Response: 1.

Average Burden per Response: 20 minutes.

Estimated Annual Burden: 10,000.

II. SSA has submitted the information collections listed below to OMB for clearance. Your comments on the information collections would be most useful if OMB and SSA receive them within 30 days from the date of this publication. To be sure we consider your comments, we must receive them no later than October 4, 2010. You can obtain a copy of the OMB clearance packages by calling the SSA Reports Clearance Officer at 410-965-8783 or by writing to the above e-mail address.

1. Medical Report (General)—20 CFR 404.1512-404.1515, 416.912-416.915—0960-0052. Through the State Disability Determination Services (DDS), SSA uses Form SSA-3826-F4 to make accurate determinations in disability claims cases. SSA collects the information to determine the claimant's physical and mental status prior to making a disability determination, and to document the disability claims folder with the medical evidence. The form provides disability adjudicators and reviewers with a narrative record and history of the disability and the objective medical findings necessary to make a disability determination. SSA uses the medical evidence from this form to determine if an individual's impairment meets the severity and duration requirements for disability benefits. The respondents are members of the medical community, including individual physicians, hospital doctors, medical records librarians, and other medical sources.

Type of Request: Revision of an OMB-approved information collection.

Number of Respondents: 150,000.

Frequency of Response: 1.

Average Burden per Response: 30 minutes.

Estimated Annual Burden: 75,000 hours.

2. Disability Report—Child—20 CFR 416.912—0960-0577. When claimants file for childhood disability benefits under the Supplemental Security Income (SSI) program, they must furnish medical and other evidence to prove they are disabled.

Form SSA-3820 collects various types of information about a child's condition from treating sources and other medical sources of evidence. The DDS evaluators use the information to develop medical and school evidence and assess the alleged disability. The information, together with medical evidence, forms the evidentiary basis upon which SSA makes its initial disability evaluation. The respondents are claimants seeking SSI childhood disability payments.

Type of Request: Revision of an OMB-approved information collection.

Collection method | Number of respondents | Frequency of respondents | Average burden per responses (minutes) | Estimated annual burden (hours)
SSA-3820 (Paper Form) | 500 | 1 | 60 | 500
Electronic Disability Collection System EDCS) | 422,000 | 1 | 34 | 239,133
I3820 (Internet) | 93,293 | 1 | 120 | 186,586
Totals | 515,793 |  |  | 426,219

3. Letter to Custodian of Birth Records/Letter to Custodian of School Records—20 CFR 404.704, 404.716, 416.802, and 422.107—0960-0693. SSA prepares the SSA-L106 and SSA-L706 for individuals who need help in obtaining evidence of their age in connection with Social Security number (SSN) card applications and claims for benefits. SSA also uses the SSA-L706 to determine the existence of primary evidence of age for SSN applicants. SSA uses both letters to verify with the issuing entity, when necessary, the authenticity of the record submitted by the SSN applicant or claimant. The respondents are schools, State and local bureaus of vital statistics, and religious entities.

Note: This is a correction notice: SSA published this information collection with the correct burden hours at 75 FR 35512 on June 22, 2010. However, we did not show the breakdown of burden hours for the different types of respondents. We are correcting that error here.

Type of Request: Revision of an OMB-approved information collection.

SSA-L106
Type of respondents | Number of respondents | Frequency of response | Average burden per response (minutes) | Total annual burden (hours)
Private Sector | 1,800 | 1 | 10 | 300
State/Local/Tribal Government | 1,800 | 1 | 10 | 300
Totals | 3,600 |  |  | 600

SSA-L706
Type of respondents | Number of respondents | Frequency of response | Average burden per response (minutes) | Total annual burden (hours)
Private Sector | 1,800 | 1 | 10 | 300
State/Local/Tribal Government | 1,800 | 1 | 10 | 300
Totals | 3,600 |  |  | 600

4. Cost Reimbursable Research Request—20 CFR 401.165—0960-0754. Qualified researchers need SSA administrative data for a variety of projects. To request SSA's program data for research, a researcher must submit a completed research application, Form SSA-9901, How to Request SSA Program Data for Research, for SSA's evaluation. In the application, the requesting researcher must provide basic project information, and describe the way in which the proposed project will further SSA's mission to promote the economic security of the Nation's people through its administration of the Old Age, Survivors, and Disability Insurance Programs, and the SSI Program. SSA reviews the application and, once we approve it, the researcher signs Form SSA-9903, SSA Agreement Regarding Conditions for Use of SSA Data, which outlines the conditions and safeguards for the research project data exchange. The researcher may use the data for research and statistical purposes only, and must complete Form SSA-9902, Confidentiality Agreement. SSA recovers all expenses incurred in providing this information as part of this reimbursable service. The respondents are Federal and State government agencies or their contractors, private entities, and colleges or universities.

Type of Request: Revision of an OMB-approved information collection.

Number of Respondents: 15.

Frequency of Response: 1.

Average Burden per Response: 240 minutes.

Estimated Annual Burden: 60 hours.

5. Authorization to Release Medical Report to Physician—20 CFR 401.55 & 401.100—0960-0761. When evidence provided by a disability claimant is inadequate for SSA to determine the disability, SSA requests a consultative examination (CE) for additional information or clarification. If the claimants, their court appointed representatives, or the parents of a minor child want the CE report sent to the claimant's treating physician, they complete Form SSA-91 and send it to SSA for processing. SSA uses the information on the SSA-91 to release the CE report to the authorized physician. Respondents are applicants for disability claims.

Type of Request: Revision of an OMB-approved information collection.

Number of Respondents: 7,922.

Frequency of Response: 1.

Average Burden per Response: 5 minutes.

Estimated Annual Burden: 660 hours.

6. Application Status—20 CFR 401.45—0960-0763. Application Status provides users with the capability to check the status of their pending Social Security claims either via the Internet or the National 800 Number Automated Telephone Service. Users need their SSN and a confirmation number to access this information. The Application Status shows users when SSA received the application, if we requested additional documents (e.g., military discharge papers, W-2s, birth records, etc.), and provides the address for the office that is processing their application. Once SSA makes a decision on a claim, we post a copy of the decision notice online for the user to view. There are some exceptions to posting a copy online, such as disability denial notices (even if filed electronically), or claims that users did not file via the Internet, as we may not have those notices available for online review. Users access this application either via http://www.ssa.gov/onlineservices/, or through the National 800 Number. Respondents are Social Security claimants.

Type of Request: Extension of an OMB-approved information collection.

Type of request | Number of respondents | Frequency of response | Average burden per response (minutes) | Total annual burden (hours)
Automated Telephone Services | 764,885 | 1 | 2 | 25,496
Internet Services | 2,881,804 | 1 | 1 | 48,030
Totals | 3,646,689 |  |  | 73,526

Dated: August 31, 2010.
Liz Davidson,
Center Director, Center for Reports Clearance, Social Security Administration.

[FR Doc. 2010-22068 Filed 9-2-10; 8:45 am]

BILLING CODE 4191-02-P